DEPARTMENT OF COMMERCE

International Trade Administration

[A-549-822]

Certain Frozen Warmwater Shrimp from Thailand: Notice of Extension of Time Limit for the Final Results of the Third Administrative Review

AGENCY: Import Administration, International Trade Administration, Department of Commerce.

DATES: Effective Date: May 29, 2009.

FOR FURTHER INFORMATION CONTACT: Kate Johnson at (202) 482-4929, or David Goldberger at (202) 482-4136, AD/CVD Operations, Office 2, Import Administration, International Trade Administration, U.S. Department of Commerce, 14th Street and Constitution Avenue, NW., Washington, DC 20230.

Background

On March 9, 2009, the Department of Commerce (the Department) published a notice for the preliminary results of the administrative review of the antidumping duty order on certain frozen warmwater shrimp from Thailand covering the period February 1, 2007, through January 31, 2008. See Certain Frozen Warmwater Shrimp from Thailand: Preliminary Results of Antidumping Duty Administrative Review, 74 FR 10000 (March 9, 2009). The final results for this administrative review are currently due no later than July 7, 2009, 120 days from the date of publication of the preliminary results of review.

Extension of Time Limit for the Final Results

Section 751(a)(3)(A) of the Tariff Act of 1930, as amended (the Act), requires the Department to issue the final results of an administrative review within 120 days after the date on which the preliminary results are published. If it is not practicable to complete the review within that time period, section 751(a)(3)(A) of the Act allows the Department to extend the deadline for the final results to a maximum of 180 days after the date on which the preliminary results are published.

The Department requires additional time to complete this review because we conducted the sales verification after the preliminary results and, therefore, case and rebuttal briefs will not be received until May 29, 2009, and June 9, 2009, respectively. Thus, it is not practicable to complete this review within the original time limit. Therefore, the Department is extending the time limit for completion of the final results of this review by 60 days, in accordance with section 751(a)(3)(A) of the Act. The final results are now due no later than September 8, 2009.

We are issuing and publishing this notice in accordance with sections 751(a)(1) and 777(i)(1) of the Act.

Dated: May 22, 2009.
John M. Andersen,
Acting Deputy Assistant Secretary for Antidumping and Countervailing Duty Operations.

[FR Doc. E9-12573 Filed 5-28-09; 8:45 am]

BILLING CODE 3510-DS-P